DEPARTMENT OF ENERGY

Federal Energy Regulatory Commission

[Docket Nos. RP00-411-002 and RP01-44-004]

Iroquois Gas Transmission System, L.P.; Notice of Compliance Filing

September 10, 2002.

Take notice that on September 3, 2002, Iroquois Gas Transmission System, L.P. (Iroquois) tendered for filing as part of its FERC Gas Tariff the following tariff sheets proposed to become effective November 1, 2002:

Sixth Revised Sheet No. 46

Third Revised Sheet No. 46A

Eighth Revised Sheet No. 47

Fourth Revised Sheet No. 107A

Second Revised Sheet No. 142

Third Revised Sheet No. 143

Original Sheet No. 143A

Second revised Sheet No. 157

Fourth Revised Sheet No. 161

Original Sheet No. 161A

First Revised Sheet No. 188A

Iroquois asserts that the purpose of its filing is to comply with Ordering Paragraph (C) of the Commission's November 8, 2001 Order in this proceeding, which required Iroquois to file revised tariff sheets by September 1, 2002, to be effective on November 1, 2002, to implement the Commission's policy regarding segmentation and flexible point rights under the Commission's Order No. 637.

Iroquois states that copies of its filing were served on all jurisdictional customers and interested state regulatory agencies and all parties to the proceeding.

Any person desiring to protest said filing should file a protest with the Federal Energy Regulatory Commission, 888 First Street, NE., Washington, DC 20426, in accordance with section 385.211 of the Commission's rules and regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-23446 Filed 9-13-02; 8:45 am]

BILLING CODE 6717-01-P